DEPARTMENT OF VETERANS AFFAIRS

[OMB Control No. 2900-New (Omnibus)]

Agency Information Collection Activities Under OMB Review

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, will submit the collection of information abstracted below to the Office of Management and Budget (OMB) for review and comment. The PRA submission describes the nature of the information collection and its expected cost and burden; it includes the actual data collection instrument.

DATES: Comments must be submitted on or before January 11, 2008.

ADDRESSES: Submit written comments on the collection of information through http://www.Regulations.gov or to VA's OMB Desk Officer, OMB Human Resources and Housing Branch, New Executive Office Building, Room 10235, Washington, DC 20503 (202) 395-7316. Please refer to “OMB Control No. 2900-New (Omnibus)” in any correspondence.

FOR FURTHER INFORMATION CONTACT: Denise McLamb, Records Management Service (005R1B), Department of Veterans Affairs, 810 Vermont Avenue, NW., Washington, DC 20420, (202) 461-7485, FAX (202) 273-0443 or e-mail denise.mclamb@mail.va.gov. Please refer to “OMB Control No. 2900-New (Omnibus).”

SUPPLEMENTARY INFORMATION: Title: Omnibus Medication Survey.

OMB Control Number: 2900-New (Omnibus).

Type of Review: Extension of a currently approved collection.

Abstract: The survey will enable VA Pharmacy Benefits Management Strategy Health Care Group (PMB) in gathering patients' perspective in the formulary decisions involving the safety and effectiveness of medications used in the VA system. PBM will use the data collected to determine how medications used in the VA system impact the patient's quality of care; frequency of side-effects of specific medication and drug combination; and the patient's satisfaction with the overall drug therapy benefit package and process within VHA.

An agency may not conduct or sponsor, and a person is not required to respond to a collection of information unless it displays a currently valid OMB control number. The Federal Register Notice with a 60-day comment period soliciting comments on this collection of information was published on October 1, 2007, at pages 55857-55858.

Affected Public: Individuals or Households.

Estimated Annual Burden: 6,667 hours.

Estimated Average Burden per Respondent: 40 minutes.

Frequency of Response: Annually.

Estimated Number of Respondents: 10,000.

Dated: December 5, 2007.
By direction of the Secretary.
Denise McLamb,
Program Analyst, Records Management Service.

[FR Doc. E7-24018 Filed 12-11-07; 8:45 am]

BILLING CODE 8320-01-P